DEPARTMENT OF TRANSPORTATION

Federal Aviation Administration

14 CFR Part 39

[Docket No. FAA-2023-1812; Project Identifier MCAI-2023-00726-A; Amendment 39-22602; AD 2023-22-18]

RIN 2120-AA64

Airworthiness Directives; Diamond Aircraft Industries Inc. Airplanes

AGENCY: Federal Aviation Administration (FAA), DOT.

ACTION: Final rule.

SUMMARY: The FAA is adopting a new airworthiness directive (AD) for all Diamond Aircraft Industries Inc. Model DA 62 airplanes. This AD was prompted by reports of baggage nets installed with defective buckles, which may result in failure of the baggage net to restrain the baggage or cargo, which could lead to injury to the occupants in the case of an emergency landing. This AD requires identifying and replacing the affected part. The FAA is issuing this AD to address the unsafe condition on these products.

DATES: This AD is effective January 19, 2024.

The Director of the Federal Register approved the incorporation by reference of a certain publication listed in this AD as of January 19, 2024.

ADDRESSES:

AD Docket: You may examine the AD docket at regulations.gov under Docket No. FAA-2023-1812; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information identified in this final rule, contact Diamond Aircraft Industries Inc., Att: Thit Tun, 1560 Crumlin Road, London, N5V 1S2, Canada; phone: (519) 457-4000; email: t.tun@diamondaircraft.com; website: diamondaircraft.com.

• You may view this service information at the FAA, Airworthiness Products Section, Operational Safety Branch, 901 Locust, Kansas City, MO 64106. For information on the availability of this material at the FAA, call (817) 222-5110. It is also available at regulations.gov under Docket No. FAA-2023-1812.

FOR FURTHER INFORMATION CONTACT: Fatin Saumik, Aviation Safety Engineer, FAA, 1600 Stewart Avenue, Suite 410, Westbury, NY 11590; phone: (516) 228-7350; email: fatin.r.saumik@faa.gov.

SUPPLEMENTARY INFORMATION:

Background

The FAA issued a notice of proposed rulemaking (NPRM) to amend 14 CFR part 39 by adding an AD that would apply to all Diamond Aircraft Industries Inc. Model DA 62 airplanes. The NPRM published in the Federal Register on September 1, 2023 (88 FR 60406). The NPRM was prompted by AD CF-2021-24, dated July 21, 2021 (also referred to as the MCAI), issued by Transport Canada, which is the aviation authority for Canada. The MCAI states Diamond Aircraft Industries Inc. received reports of defective buckles installed on the baggage nets on DA 40 NG and DA 62 airplanes. An investigation revealed a quality issue during the manufacturing of the Quick Fix Baggage Net Assembly, part number (P/N) D44-2550-90-00 and P/N D67-2550-90-00_02, by the supplier. P/N D44-2550-90-00 baggage nets can also be installed on DA 40, DA 40 D, and DA 40 F airplanes. The baggage nets installed with defective buckles may not maintain sufficient holding force to restrain the baggage or cargo that is carried in the same compartment as passengers. Consequently, they may not provide adequate means to protect the passengers from injury. This condition, if not corrected, could result in the failure of the baggage net to restrain the baggage or cargo, which could lead to injury to the occupants in the case of an emergency landing. The MCAI mandates the removal and replacement of the affected baggage nets. The MCAI also renders any affected baggage nets not eligible for installation as a replacement part on Diamond Aircraft Industries Inc. Model DA 40, DA 40 D, DA 40 F, DA 40 NG, and DA 62 airplanes.

Previously, the FAA issued AD 2022-13-06, Amendment 39-22092 (87 FR 40435, July 7, 2022) (AD 2022-13-06) to address the unsafe condition on all Diamond Aircraft Industries Inc. Model DA 40, DA 40 F, and DA 40 NG airplanes (including Model DA 40 D airplanes that have been converted to Model DA 40 NG airplanes). AD 2022-13-06 requires removing and replacing the affected baggage nets. The Diamond Aircraft Industries Inc. Model DA 62 airplanes were not included in AD 2022-13-06. This AD requires these same actions on the Diamond Aircraft Industries Inc. Model DA 62 airplanes.

In the NPRM, the FAA proposed to require identifying and replacing affected baggage nets. The FAA is issuing this AD to prevent failure of the baggage net to restrain the baggage or cargo. This unsafe condition, if not corrected, could result in injury to occupants in the case of an emergency landing.

You may examine the MCAI in the AD docket at regulations.gov under Docket No. FAA-2023-1812.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. This AD is adopted as proposed in the NPRM.

Related Service Information Under 1 CFR Part 51

The FAA reviewed Diamond Aircraft Industries Mandatory Service Bulletin MSB 62-028, Rev. 1, dated July 6, 2021, which specifies procedures for identifying, removing, and replacing the affected baggage nets.

This service information is reasonably available because the interested parties have access to it through their normal course of business or by the means identified in ADDRESSES.

Differences Between This AD and the MCAI

The MCAI applies to Diamond Aircraft Industries Inc. Model DA 40, DA 40 D, DA 40 F, DA 40 NG, and DA 62 airplanes. This AD only applies to Diamond Aircraft Industries Inc. Model DA 62 airplanes and does not apply to Model DA 40, DA 40 F, and DA 40 NG airplanes because those airplanes are already covered by AD 2022-13-06. This AD does not apply to Model DA 40 D airplanes because that model does not have an FAA type certificate.

Costs of Compliance

The FAA estimates that this AD affects 81 airplanes of U.S. registry.

The FAA estimates the following costs to comply with this AD:

Estimated Costs
Action | Labor cost | Parts cost | Cost per product | Cost on U.S. operators
Replace baggage net | 0.25 work-hour × $85 per hour = $21.25 | $441 | $462.25 | $37,442.25

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-22-18 Diamond Aircraft Industries Inc: Amendment 39-22602; Docket No. FAA-2023-1812; Project Identifier MCAI-2023-00726-A.

(a) Effective Date

This airworthiness directive (AD) is effective January 19, 2024.

(b) Affected ADs

AD 2022-13-06, Amendment 39-22092 (87 FR 40435, July 7, 2022) is related to this AD.

(c) Applicability

This AD applies to Diamond Aircraft Industries Inc. Model DA 62 airplanes, all serial numbers, certificated in any category.

(d) Subject

Joint Aircraft System Component (JASC) Code 2550, Cargo Compartments.

(e) Unsafe Condition

This AD was prompted by reports of baggage nets installed with defective buckles. The FAA is issuing this AD to prevent failure of the baggage net to restrain the baggage or cargo. The unsafe condition, if not addressed, could result in injury to occupants in the case of an emergency landing.

(f) Compliance

Comply with this AD within the compliance times specified, unless already done.

(g) Definition

The following are “affected baggage nets” for purposes of this AD: Quick fix baggage net assembly part number D67-2550-90-00_02 with a date of manufacture of June 2016.

(h) Required Actions

(1) Within 12 months after the effective date of this AD or within 50 hours time-in-service after the effective date of this AD, whichever occurs first, inspect each baggage net to determine whether an affected baggage net is installed on your airplane.

Note 1 to the introductory text of paragraph (h)(1): The date of manufacture is located on the label with the abbreviation “DMF.”

(i) If an affected baggage net is installed, before further flight, remove the baggage net from service.

(ii) Before the next flight carrying baggage or cargo in the baggage compartment, install a baggage net that is not an affected baggage net in accordance with Figure 1 of the Accomplishment Instructions in Diamond Aircraft Industries Mandatory Service Bulletin MSB 62-028, Rev. 1, dated July 6, 2021.

(2) As of the effective date of this AD, do not install an affected baggage net on any airplane.

(i) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (j)(2) of this AD or email to: 9-AVS-AIR-730-AMOC@faa.gov. If mailing information, also submit information by email. Before using any approved AMOC, notify your appropriate principal inspector, or lacking a principal inspector, the manager of the local Flight Standards District Office/certificate holding district office.

(j) Additional Information

(1) Refer to Transport Canada AD CF-2021-24, dated July 21, 2021, for related information. This Transport Canada AD may be found in the AD docket at regulations.gov under Docket No. FAA-2023-1812.

(2) For more information about this AD, contact Fatin Saumik, Aviation Safety Engineer, FAA, 1600 Stewart Avenue, Suite 410, Westbury, NY 11590; phone: (516) 228-7350; email: fatin.r.saumik@faa.gov.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Diamond Aircraft Industries Mandatory Service Bulletin MSB 62-028, Rev. 1, dated July 6, 2021.

(ii) [Reserved]

(3) For service information identified in this AD, contact Diamond Aircraft Industries Inc., Att: Thit Tun, 1560 Crumlin Road, London, N5V 1S2, Canada; phone: (519) 457-4000; email: t.tun@diamondaircraft.com; website: diamondaircraft.com.

(4) You may view this service information at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on November 3, 2023.
Victor Wicklund,
Deputy Director, Compliance & Airworthiness Division, Aircraft Certification Service.

[FR Doc. 2023-27523 Filed 12-14-23; 8:45 am]

BILLING CODE 4910-13-P